DEPARTMENT OF THE INTERIOR

Bureau of Land Management

[LLNMP0000 L13110000.XH0000]

Notice of Public Meeting, Pecos District Resource Advisory Council Meeting, New Mexico

AGENCY: Bureau of Land Management, Interior.

ACTION: Notice of public meeting.

SUMMARY: In accordance with the Federal Land Policy and Management Act and the Federal Advisory Committee Act of 1972, the U.S. Department of the Interior, Bureau of Land Management (BLM), Pecos District Resource Advisory Council (RAC), will meet as indicated below.

DATES: The meeting is on November 19, 2013, from 9 a.m.-4 p.m.

ADDRESSES: The meeting will be at the Bureau of Land Management Carlsbad Field Office, 620 East Greene Street, Carlsbad, NM, on November 19. The public may send written comments to the RAC, 2909 W. 2nd Street, Roswell, NM 88201.

FOR FURTHER INFORMATION CONTACT: Howard Parman, Pecos District, Bureau of Land Management, 2909 W. 2nd Street, Roswell, NM 88201, 575-627-0212. Persons who use a telecommunications device for the deaf (TDD) may call the Federal Information Relay Service (FIRS) at 1-800-877-8229 to contact the above individual during normal business hours. The FIRS is available 24 hours a day, 7 days a week, to leave a message or question with the above individual. You will receive a reply during normal business hours.

SUPPLEMENTARY INFORMATION: The 10-member RAC advises the Secretary of Interior, through the Bureau of Land Management, on a variety of planning and management issues associated with public land management in New Mexico. Planned agenda items include electing a committee chair, an update on the Carlsbad Resource Management Plan revision, regional ecological assessments, water use issues as related to mineral development, and new potash mine development.

All RAC meetings are open to the public. There will be a public comment period at 3:00 p.m. for any interested members of the public who wish to address the Council on BLM programs and business. Depending on the number of persons wishing to speak and time available, the time for individual comments may be limited. You may also submit written comments during the meeting for the RAC's consideration.

Jim Stovall,
District Manager.

[FR Doc. 2013-25148 Filed 10-24-13; 8:45 am]

BILLING CODE 4310-FB-P